DEPARTMENT OF DEFENSE

Office of the Secretary

[Docket ID: DoD-2020-OS-0006]

Privacy Act of 1974; System of Records

AGENCY: National Geospatial-Intelligence Agency (NGA), Department of Defense (DoD).

ACTION: Rescindment of a System of Records notice.

SUMMARY: The NGA is rescinding a System of Records, Classified Material Access Files, B0502-03-2. This System of Records maintained records of individuals' access to classified material by specific categories and for established purposes. All Classified Material Access Files records transitioned to the NGA Enterprise Workforce System (EWS), and are covered by NGA-003.

DATES: This System of Records rescindment is effective upon publication. The specific date for when this system ceased to be a Privacy Act System of Records is November 19, 2013 and the records transitioned to the NGA EWS.

FOR FURTHER INFORMATION CONTACT: To submit general questions about the rescinded system, please contact Mr. Charles R. Melton, Chief FOIA, National Geospatial-Intelligence Agency, Security and Installation, Attn: FOIA Office, 7500 GEOINT Drive, Springfield, VA 22150-7500, or by phone at (571) 558-3715.

SUPPLEMENTARY INFORMATION: On November 19, 2013, the Office of the Secretary of Defense published a new System of Records, NGA EWS (November 19, 2013, 78 FR 69393). The EWS System of Records subsumed all NGA Classified Material Access Files.

The DoD notices for Systems of Records subject to the Privacy Act of 1974 (5 U.S.C. 552a), as amended, have been published in the Federal Register and are available from the address in the FOR FURTHER INFORMATION CONTACT section or at the Defense Privacy, Civil Liberties and Transparency Division website at https://dpcld.defense.gov.

The proposed system reports, as required by the Privacy Act of 1974, as amended, were submitted on November 26, 2019 to the House Committee on Oversight and Reform, the Senate Committee on Homeland Security and Governmental Affairs, and on February 5, 2019, to the Office of Management and Budget (OMB) pursuant to Section 6 to OMB Circular No. A-108, “Federal Agency Responsibilities for Review, Reporting, and Publication under the Privacy Act,” revised December 23, 2016 (December 23, 2016, 81 FR 94424).

SYSTEM NAME AND NUMBER:

Classified Material Access Files, B0502-03-2.

HISTORY:

February 22, 1993, 58 FR 10189.

Dated: January 10, 2020.
Aaron T. Siegel,
Alternate OSD Federal Register Liaison Officer, Department of Defense.

[FR Doc. 2020-00582 Filed 1-15-20; 8:45 am]

BILLING CODE 5001-06-P